DEPARTMENT OF THE INTERIOR

National Park Service

[NPS-SER-CONG-24776; PS.SSELA0303.00.1]

Minor Boundary Revision at Congaree National Park

AGENCY: National Park Service, Interior.

ACTION: Notification of boundary revision.

SUMMARY: The boundary of Congaree National Park is modified to include 100.77 acres of land immediately adjacent to the boundary of the national park. The United States will purchase, from a willing seller, a parcel containing 100.77 acres of land. The tract encompasses the north half of Bates Old River and northern uplands east of Highway 601.

DATES: The applicable date of this boundary revision is March 20, 2018.

ADDRESSES: The map depicting this boundary revision is available for inspection at the following locations: National Park Service, Southeast Region Land Resources Program Center, 1924 Building, 100 Alabama Street SW, Atlanta, Georgia 30303 and National Park Service, Department of the Interior, 1849 C Street NW, Washington, DC 20240.

FOR FURTHER INFORMATION CONTACT: National Park Service, Anthony Marshall Acting Chief, Southeast Region Land Resources Program Center, 1924 Building, 100 Alabama Street SW, Atlanta, Georgia 30303, telephone 404-507-5657.

SUPPLEMENTARY INFORMATION: Notice is hereby given that, pursuant to 54 U.S.C. 100506, the boundary of Congaree National Park is modified to include 100.77 acres of adjacent land acres identified as Tract 101-81. The boundary revision is depicted on Map No. 178/132,867 dated August 2017.

Specifically, 54 U.S.C. 100506 provides that, after notifying the House Committee on Natural Resources and the Senate Committee on Energy and Natural Resources, the Secretary of the Interior is authorized to make this boundary revision upon publication of notice in the Federal Register. The Committees have been notified of this boundary revision. This boundary revision and subsequent acquisition of Tract 101-81 will enable the National Park Service to manage and protect significant resources located in the Congaree National Park.

Dated: January 4, 2018.
Stan Austin,
Regional Director, Southeast Region.

[FR Doc. 2018-05575 Filed 3-19-18; 8:45 am]

BILLING CODE 4312-52-P